NATIONAL SCIENCE FOUNDATION

Emergency Clearance; Public Information Collection Requirements Submitted to the Office of Management and Budget; Notice

AGENCY: National Science Foundation.

ACTION: Emergency Clearance: Public Information Collection Requirements Submitted to the Office of Management and Budget (OMB).

SUMMARY: The National Science Foundation (NSF) is announcing plans to request approval of this collection. In accordance with the requirement of section 3506(c)(2)(A) of the Paperwork Reduction Act of 1995 (Pub. L. 104-13), we are providing an opportunity for public comment on this action. After obtaining and considering public comment, NSF will prepare the submission requesting that OMB approve clearance of this collection for no longer than 3 years.

DATES: Interested persons are invited to send comments regarding the burden or any other aspect of these collections of information requirements. However, as noted below, comments on these information collection and record keeping requirements must be received by the designees referenced below by November 16, 2001.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov, and

Office of Information and Regulatory Affairs, Office of Management and Budget, Room 10235, New Executive Office Building, Washington, DC 20503. Attn: Lauren Wittenberg, NSF Desk Officer.

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

NSF has determined that it cannot reasonably comply with the normal clearance procedures under 5 CFR 1320 because normal clearance procedures are reasonably likely to prevent or disrupt the collection of information. NSF is requesting emergency review from OMB of this information collection to enable the NSF/REC to proceed with the ongoing evaluation of the Preparing Future Faculty (PFF) Program. Emergency review and approval of this ICR will assure continuation of the PFF evaluation that is also funded by the Atlantic Philanthropies. OMB approval has been requested for November 16, 2001. If granted, the emergency approval is only valid for 180 days.

During the first 60 days of this same period, a regular review of this information collection is also being undertaken. During the regular review period, the NSF requests written comments and suggestions from the public and affected agencies concerning this information collection. Comments are encouraged and will be accepted until January 7, 2002. to be assured of consideration. Comments received after that date will be considered to the extent practicable.

FOR FURTHER INFORMATION CONTACT: Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION:

Request for Emergency Clearance for Data Collection in Support of a Cross-Site Evaluation of National Science Foundation's Directorate for Education and Human Resources; Evaluation of the Preparing Future Faculty (PFF) Program

OMB Approval Number: OMB 3145-NEW.

Expiration Date: Not applicable.

Overview of this information collection:

Titles of survey instruments and protocol for Evaluation of the Preparing Future Faculty Program:

• PFF Grantee Survey (parts A and B)

• PFF Partner Faculty Survey

• PFF Graduate Faculty Survey

• PFF Participant Survey

• PFF Site Visit Protocol

This collection will be used by NSF to evaluate the impact and effectiveness of Preparing Future Faculty programs on graduate education and the development of future professors.

Respondents: Not-for-profit institutions, individuals; faculty, and students.

Number of Respondents: 4,003.

Burden on the Public: 788 hours.

Dated: November 2, 2001.
Suzanne H. Plimpton,
NSF Reports Clearance Officer.

[FR Doc. 01-28051 Filed 11-7-01; 8:45 am]

BILLING CODE 7555-01-M